DEPARTMENT OF ENERGY

Federal Energy Regulatory Commission

[Docket No. EC05-43-000, et al.]

Exelon Corporation, et al.; Electric Rate and Corporate Filings

February 10, 2005.

The following filings have been made with the Commission. The filings are listed in ascending order within each docket classification.

1. Exelon Corporation Public Service Enterprise Group Incorporated

[Docket No. EC05-43-000]

Take notice that on February 4, 2005, as supplemented on February 9, 2005, Exelon Corporation and its subsidiaries that are electric utilities subject to the Commission's jurisdiction (collectively, Exelon) and Public Service Enterprise Group Incorporated and its subsidiaries that are electric utilities subject to the Commission's jurisdiction (collectively, PSEG) submitted a filing pursuant to section 203 of the Federal Power Act and part 33 of the Commission's Regulations requesting that the Commission approve a transaction that includes: (1) Exelon's acquisition of PSEG and the resulting indirect merger of Exelon's and PSEG's regulated public utilities; and (2) the consolidation of Exelon's and PSEG's unregulated generation companies and corporate restructuring of the subsidiaries of their unregulated generation companies.

Comment Date: 5 p.m. eastern time on April 11, 2005.

2. TPF Chesapeake, LLC, TM Delmarva Power LLC, Commonwealth Chesapeake Company, LLC

[Docket No. EC05-44-000]

Take notice that on February 7, 2005, TPF Chesapeake, LLC (TPF), TM Delmarva Power LLC (TMDP), and Commonwealth Chesapeake Company, LLC (CCC) (collectively, Applicants) tendered for filing with the Commission pursuant to section 203 of the Federal Power Act and part 33 of the Commission's regulations, an application authorizing TPF to purchase all of the membership interests in CCC from TMDP and subsequent reorganization of the upstream ownership of CCC to facilitate the upstream addition of new passive, limited partners.

Applicants state that CCC is a 315 MW simple-cycle, oil-fired electric generating facility located in New Church, Virginia. Applicants request confidential treatment of certain parts of Exhibit I.

Comment Date: 5 p.m. eastern time on February 28, 2005.

3. USGen New England, Inc., Bear Swamp Power Company LLC, Great Lakes Hydro America, LLC

[Docket No. EC05-45-000]

Take notice that on February 8, 2005, USGen New England, Inc. (USGenNE), Bear Swamp Power Company LLC (BSPC) and Great Lakes Hydro America, LLC (GLHA) (collectively referred to herein as the Applicants) submitted an application pursuant to section 203 of the Federal Power Act (FPA) requesting authorization of the transfer of USGenNE's operational interests and the sale of the interests owned by Bear Swamp Generating Trust No. 1 LLC and Bear Swamp Generating Trust No. 2 LLC (Sale) to BSPC of the jurisdictional facilities associated with the 589 MW Bear Swamp Pumped Storage Project located on the Deerfield River in northern Massachusetts (Bear Swamp Facility) and the nearby 10 MW Fife Brook Hydroelectric Project, a run-of-river hydroelectric facility (collectively, the Facilities). Applicants state that in the unlikely event that BSPC does not have the legal authority to sell power for resale at market-based rates pursuant to FPA section 205 (MBR Authorization) by the effective date of a proposed interim operating arrangement, the Applicants also request authorization of the temporary transfer of control of the Facilities for purposes of compliance with Parts II and III of the FPA to GLHA until BSPC obtains MBR Authorization.

Applicants further state that the jurisdictional facilities involved in the Sale include transmission lines and related facilities necessary to interconnect the Facilities to the integrated transmission grid, including substation and switching station equipment, miscellaneous power plant equipment, and related accounts, books, and records.

Comment Date: 5 p.m. eastern time on March 1, 2005.

4. El Paso Electric Company

[Docket No. EL02-113-008]

Take notice that on February 2, 2005, El Paso Electric Company (EPE) submitted a compliance filing pursuant to the Commission's Letter Order issued October 23, 2003, in Docket No. EL02-113-002, 105 FERC ¶ 61,107.

EPE states that copies of the filing were served on parties on the official service list.

Comment Date: 5 p.m. eastern time on February 23, 2005.

5. TECO EnergySource, Inc., Panda Gila River, L.P., TECO-PANDA Generating Co., L.P., TPS Dell, LLC, TPS McAdams, LLC, Union Power Partners, L.P., Commonwealth Chesapeake Company, L.L.C.

[Docket Nos. ER96-1563-020, ER01-931-007, ER02-1000-004, ER02-510-003, ER02-507-003, ER01-930-007, and ER99-415-006]

Take notice that on June 25, 2004, TECO EnergySource, Inc., Panda Gila River, L.P., TECO-PANDA Generating Co., L.P., TPS Dell, LLC, TPS McAdams, LLC, Union Power Partners, L.P., and Commonwealth Chesapeake Company, L.L.C. (collectively, the Companies) submitted for filing a non-material change in status with regard to the market-based rate authorizations of the Companies. Companies state that, in conjunction with the May 4, 2004, application under section 203 of the Federal Power Act, the Companies are undergoing an internal reorganization of TECO Energy, an exempt public utility holding company.

Comment Date: 5 p.m. eastern time on February 18, 2005.

6. New York State Electric & Gas Corporation

[Docket No. ER99-221-008]

Take notice that on February 3, 2005, New York State Electric & Gas Corporation (NYSEG) filed a notification of change in status to reflect a departure from the characteristics that the Commission relied upon in granting NYSEG market-based rate authority in the Commission's order issued December 14, 1998, in Docket Nos. ER99-220-000 and ER99-221-000, FERC ¶ 61,342 (1998).

Comment Date: 5 p.m. eastern time on February 24, 2005.

7. Illinois Power Company

[Docket No. ER05-173-002]

Take notice that on February 4, 2005, Illinois Power Company d/b/a AmerenIP (AmerenIP) tendered for filing an amendment to its December 30, 2004, filing in Docket No. ER05-173-001 to include in the proposed tariff an express prohibition on AmerenIP making sales under the tariff to any affiliate. AmerenIP requests an effective date of January 1, 2005.

Comment Date: 5 p.m. eastern time on February 25, 2005.

8. Georgia Energy Cooperative

[Docket No. ER05-349-001]

Take notice that on February 3, 2005, Georgia Energy Cooperative (GEC) submitted for filing additional information to its petition for acceptance of initial rate schedule, waivers and blanket authority filed on December 16, 2004, in Docket No. ER05-349-000.

Comment Date: 5 p.m. eastern time on February 18, 2005.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Linda L. Mitry,
Deputy Secretary.

[FR Doc. E5-659 Filed 2-17-05; 8:45 am]

BILLING CODE 6717-01-P